SECURITIES AND EXCHANGE COMMISSION

[Release No. 34-70918; File No. SR-NYSEArca-2013-42]

Self-Regulatory Organizations; NYSEArca, Inc.; Notice of Withdrawal of Proposed Rule Change Amending NYSE Arca Rule 6.72 To Make the Penny Pilot Program for Options Permanent

November 21, 2013.

I. Introduction

On August 20, 2013, NYSEArca, Inc. (“NYSEArca” or the “Exchange”) filed with the Securities and Exchange Commission (“Commission”), pursuant to Section 19(b)(1) of the Securities Exchange Act of 1934 (“Act”) ¹ and Rule 19b-4 thereunder,² a proposed rule change to amend NYSEArca Rule 6.72 to make permanent the penny quoting program for options (“Penny Trading Program” or “Program”). The proposed rule change was published for comment in the Federal Register on September 10, 2013.³ The Commission received 11 comment letters on this proposal.⁴ On October 22, 2013, the Commission extended to December 9, 2013, the time period in which to approve the proposed rule change, disapprove the proposed rule change, or institute proceedings to determine whether to disapprove the proposed rule change.⁵

¹ 15 U.S.C. 78s(b)(1).

² 17 CFR 240.19b-4.

³ See Securities Exchange Act Release No. 70317 (September 4, 2013), 78 FR 55312.

⁴ See Position Paper from Michael J. Simon, Secretary, International Securities Exchange, LLC, dated September 19, 2013; and letters to Elizabeth M. Murphy, Secretary, Commission, from John M. Liftin, Managing Director and General Counsel, D.E. Shaw & Co., L.P., dated September 30, 2013; Michael J. Simon, Secretary, ISE, dated October 1, 2013; Benjamin R. Londergan, Chief Executive Officer, Group One Trading, L.P., dated October 1, 2013; Jenny L. Golding, Senior Attorney, Legal Division, Chicago Board Options Exchange, Incorporated, dated October 7, 2013; John C. Nagel, Managing Director and General Counsel, Citadel Securities, dated October 15, 2013; Michael J. Simon, Secretary, ISE, dated October 16, 2013; Harris Bock, Chief Executive Officer, Dynamex Trading LLC, dated October 17, 2013; Jeffrey Kaufman, Managing Partner, Lakeshore Securities LP, dated October 25, 2013; Gerald D. O'Connell, Chief Compliance Officer, Susquehanna International Group, LLP, dated October 30, 2013; and Ronald M Pittelkau, MNR Executions, LLC, dated November 7, 2013.

⁵ See Securities Exchange Act Release No. 70733, 78 FR 64257 (October 28, 2013).

On November 20, 2013, NYSEArca withdrew the proposed rule change (SR-NYSEArca-2013-42).

For the Commission, by the Division of Trading and Markets, pursuant to delegated authority.⁶
⁶ 17 CFR 200.30-3(a)(12).
Kevin M. O'Neill,
Deputy Secretary.

[FR Doc. 2013-28423 Filed 11-26-13; 8:45 am]

BILLING CODE 8011-01-P